NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) April 28-29, 2008. A sample of agenda items to be discussed during the public session includes: (1) ACMUI comments on the National Academies of Sciences report (http://www.nap.edu/catalog.php?record_id=11976); (2) ACMUI subcommittee recommendations on regulating the Leksell Gamma-Knife® Perfexion™; (3) potential revisions to the Abnormal Occurrence criteria; (4) subcommittee report on medical events and analysis of causes; (5) emerging technology; (6) yttrium 90 microsphere guidance; (7) status of active petitions for rulemaking; (8) NARM transition plan update; and (9) status of specialty board applications for NRC recognition. A copy of the agenda will be available at http://www.nrc.gov/reading-rm/doc-collections/acmui/agenda or by e-mailing Ms. Ashley M. Tull at the contact information below.

Purpose: Discuss issues related to 10 CFR Part 35 Medical Use of Byproduct Material.

Date and Time for Closed Sessions: April 28, 2008 from 3:30 p.m. to 5:30 p.m. This session will be closed so that NRC staff and ACMUI can prepare for the Commission meeting.

Date and Time for Open Sessions: April 28, 2008, from 8 a.m. to 3:30 p.m. and April 29, 2008, from 8 a.m. to 3 p.m.

Address for Public Meeting: U.S. Nuclear Regulatory Commission, Two White Flint North Building, Room T2-B3, 11545 Rockville Pike, Rockville, Maryland 20852.

Public Participation: Any member of the public who wishes to participate in the meeting should contact Ms. Tull using the information below.

Contact Information: Ashley M. Tull, e-mail: amt1@nrc.gov, telephone: (301) 415-5294 or (918) 488-0552.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by April 21, 2008, and must pertain to the topic on the agenda for the meeting.

2. Questions and comments from members of the public will be permitted during the meeting, at the discretion of the Chairman.

3. The transcript will be available for inspection on ACMUI's Web site (http://www.nrc.gov/reading-rm/doc-collections/acmui/tr/) on or about July 28, 2008. Minutes of the meeting will be available on or about June 11, 2008.

4. Persons who require special services, such as those for the hearing impaired, should notify Ms. Tull of their planned attendance.

This meeting will be held in accordance with the Atomic Energy Act of 1954, as amended (primarily Section 161a); the Federal Advisory Committee Act (5 U.S.C. App); and the Commission's regulations in Title 10, U.S. Code of Federal Regulations, Part 7.

Dated: March 12, 2008.
Andrew L. Bates,
Advisory Committee Management Officer.

[FR Doc. E8-5398 Filed 3-17-08; 8:45 am]

BILLING CODE 7590-01-P